NATIONAL SCIENCE FOUNDATION

President's Committee on the National Medal of Science; Notice of Meeting

In accordance with the Federal Advisory Committee Act (Pub. L. 92-463, as amended), the National Science Foundation announces the following meeting:

Name: President's Committee on the National Medal of Science (1182).

Date and Time: Monday, November 23, 2009, 8:30 a.m.-1:30 p.m.

Place: Conference Room, Hilton Arlington Hotel, 950 North Stafford Street, Arlington, VA 22203.

Type of Meeting: Closed.

Contact Person: Ms. Mayra Montrose, Program Manager, Room 1282, National Science Foundation, 4201 Wilson Blvd, Arlington, VA 22230. Telephone: 703-292-4757.

Purpose of Meeting: To provide advice and recommendations to the President in the selection of the 2009 National Medal of Science recipients.

Agenda: To review and evaluate nominations as part of the selection process for awards.

Reason for Closing: The nominations being reviewed include information of a personal nature where disclosure would constitute unwarranted invasions of personal privacy. These matters are exempt under 5 U.S.C. 552b(c)(6) of the Government in the Sunshine Act.

Dated: October 14, 2009.
Susanne Bolton,
Committee Management Officer.

[FR Doc. E9-25032 Filed 10-16-09; 8:45 am]

BILLING CODE 7555-01-P